FEDERAL MEDIATION AND CONCILIATION SERVICE

Submission for OMB Review: Comment Request

AGENCY: Federal Mediation and Conciliation Service.

ACTION: Notice of Forms SF424, SF270 (LM-6), (LM-8), SF269a (LM-7), (LM-9), and (LM-3) submitted for extension and review to the Office of Management and Budget.

SUMMARY: This notice announces that six information collection requests contained in the Federal Mediation and Conciliation Service (FMCS) agency forms are coming up for renewal. FMCS submitted to the Office of Management and Budget (OMB) a request for review of six FMCS forms: SF424 Application for Federal Assistance, SF270 (LM-6)—Request for Advance or Reimbursement, (LM-8)—Project Performance, SF269a (LM-7)—Financial Status Report, (LM-9)—FMCS Grants Program Grantee Evaluation Questionnaire, and (LM-3)—Accounting System and Financial Capability Questionnaire. The request seeks OMB approval for a three-year expiration date of Forms SF424, SF270 (LM-6), (LM-8), SF269a (LM-7), (LM-9) and (LM-3) until March 2009. FMCS is soliciting comments on specific aspects of the collection as described below.

DATES: Comments must be submitted within 30 days from the date of this publication in the Federal Register.

ADDRESSES: Submit written comments identified by the appropriate agency form number by mail to the Office of Information and Regulatory Affairs, Office of Management and Budget, Attention: Desk Officer for the Federal Mediation and Conciliation Service, Room 10235, Washington, DC 20503. Copies of the complete agency forms may be obtained from the Labor Management Grants Program at Federal Mediation and Conciliation Service, the Labor Management Grants Program, 2100 K Street, NW., Washington, DC 20427 or by contacting the person whose name appears under the section headed, FOR FURTHER INFORMATION CONTACT.

Comments and data may also be submitted by fax at (202) 606-3434 or electronically by sending electronic (e-mail) to Maria Fried, Federal Register Liaison at mfried@fmcs.gov or Linda Stubbs, Grants Management Specialist at lstubbs@fmcs.gov. All comments and data in electronic form must be identified by the appropriate agency form number. No confidential business information (CBI) should be submitted through e-mail.

Information submitted as a comment concerning this document may be claimed confidential by marking any part or all of the information as “CBI”. Information so marked will be disclosed but a copy of the comment that does contain CBI must be submitted for inclusion in the public record. Information not marked confidential may be disclosed publicly by FMCS without prior notice. All written comments will be available for inspection in Room 10235 at the Washington, DC address above from 8:30 a.m. to 4:30 p.m., Monday through Friday, excluding legal holidays.

FOR FURTHER INFORMATION CONTACT: Linda Stubbs, Grants Management Specialist, FMCS 2100 K Street, NW., Washington, DC 20427. Telephone number (202) 606-8181, e-mail to lstubbs@fmcs.gov or fax at (202) 606-3434.

I. Information Collection Requests

FMCS is seeking comments on the following information collection requests contained in FMCS agency forms.

Agency: Federal Mediation and Conciliation Service.

Form Number: OMB No. 3076-0006.

Type of Request: Reinstatement without change of a currently approved collection without any change in the substance or method of collection.

Affected Entities: Potential applicants/grantees who received our grant application kit. Also, applicants/grantees who have received a grant from FMCS.

Frequency: a. Three of the forms, the SF424, LM-6, and LM-9 are submitted at the applicant/grantee's discretion.

b. To conduct the quarterly submissions, LM-7/LM-8 forms are used. Less than quarterly reports would deprive FMCS of the opportunity to provide prompt technical assistance to deal with those problems identified in the report.

c. Once per application. The LM-3 is the only form to which a “similar information” requirement could apply. That form takes the requirement into consideration by accepting recent audit reports in lieu of applicant completion of items C2 through 9 and items D1 through 3.

Burden: SF424 Application for Federal Assistance, SF270 (LM-6) Request for Advance or Reimbursement-30 minutes, (LM-8) Project Performance-60 minutes, SF269a (LM-7) Financial Status Report-30 minutes, (LM-9) FMCS Grants Program Evaluation Questionnaire-60 minutes, and (LM-3) Accounting System and Financial Capability Questionnaire 60 minutes.

Abstract: Except for the FMCS Forms LM-3 and LM-9, the forms under consideration herein are either required or recommended in OMB Circulars. The two exceptions are non-recurring forms, the former a questionnaire sent only to non-governmental potential grantees and the latter a questionnaire sent only to former grantees for voluntary completion and submission.

The collected information is used by FMCS to determine annual applicant suitability, to monitor quarterly grant project status, and for on-going program evaluation. If the information were not collected, there could be no accounting for the activities of the program. Actual use has been the same as intended use.

II. Request for Comments

The OMB is particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected; and

(iv) Minimize the burden of the collection of information on those who are to respond, including the use of appropriate automated electronic collection technologies or other forms of information technology, e.g. permitting electronic and fax submission of responses.

List of Subjects

Labor-Management Cooperation Program and Information collection requests.

Dated: July 6, 2006.
Fran Leonard,
Acting Chief of Staff, Federal Mediation and Conciliation Service.

[FR Doc. E6-10945 Filed 7-11-06; 8:45 am]

BILLING CODE 6732-01-P